DEPARTMENT OF HEALTH AND HUMAN SERVICES

Centers for Disease Control and Prevention

[60 Day-08-08AG]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

HIV/AIDS Surveillance, Research, and Intervention Methods and Materials Development—New—National Center for HIV, STD, and TB Prevention (NCHHSTP), Centers for Disease Control and Prevention (CDC).

Background and Brief Description

The Division of HIV/AIDS Prevention (DHAP) within the National Center for HIV, Hepatitis, STD, and TB Prevention (NCHHSTP) of the Centers for Disease Control and Prevention (CDC) is planning to request the Office of Management and Budget for a generic clearance mechanism to support behavioral projects. The projects encompass several qualitative analytic methods, intervention, and materials development activities to be carried out by CDC, its contractors, or its partners.

The major activities fall into six categories based on their purpose and intended use:

(1) Qualitative interviewing for HIV/AIDS surveillance, research, and intervention methods and material development. Results of individual interviews or group interviews are used to develop population-appropriate methods, interventions, and data collection materials for current and future projects.

(2) Cognitive interviewing for development and testing of specific data collection instruments used for HIV/AIDS surveillance or research. Draft instruments to be used by DHAP are developed and tested through rounds of cognitive interviews with volunteer respondents. Results of cognitive interviews are used to make instrument design decisions that minimize response error and reduce burden to the public.

(3) Research on methodology for HIV/AIDS surveillance or research projects. The purpose of the research is to enhance understanding of the psychology of participation and response, to develop better standards for project methodology and instrument design, or to improve data collection and other study procedures. Such research could take the form of experiments embedded within fielded surveillance or research projects or exploratory studies employing individual interviews or focus groups.

(4) Research on utilizing computer-assisted instruments (including web-based technology) for HIV surveillance or research projects. This research uses qualitative and quantitative data collection methods with volunteer respondents in order to assess the design and use of computer-assisted instruments.

(5) Pilot interviews. A limited number of pilot interviews are conducted using proposed instruments and data collection methodologies. Sources of response error are identified through examination of pilot data, observation by methodologists, and techniques such as the coding of the interviewer-respondent interaction. Respondents for pilot interviews and interventions will be selected using the methods developed for the study that is being piloted.

(6) Pilot testing of behavioral interventions. Component testing will assess acceptability and feasibility of separate intervention activities. A limited number of pilot tests are conducted for behavioral interventions prior to being tested in a “full intervention trial.”

Respondents who will participate in individual and group interviews (qualitative, cognitive, and computer-assisted development activities) are selected purposively from those who respond to recruitment advertisements. In addition to utilizing advertisements for recruitment, respondents who will participate in research on survey methods may be selected purposively or systematically from within an ongoing surveillance or research project.

CDC estimates that an average of 1430 individuals will participate in HIV/AIDS methods, intervention, and instrument development activities in a given year and the average annual respondent burden is estimated to be 2135 hours. The estimates given below cover the time that each respondent will spend communicating with the recruitment staff, in answering survey questions and, in some cases, being debriefed about the decision and recall strategies they used. Participation of respondents is voluntary and there is no cost to the respondents other than their time.

Estimate of Annualized Burden Table
Types of data collection | No. of respondents | No. of responses per respondent | Average burden per response (in hours) | Total burden (in hours)
(1) Methods, interventions, and materials development—individual interviews | 250 | 1 | 1 | 250
(2) Methods, interventions, and materials development—group interviews | 450 | 1 | 2 | 900
(3) Research on survey methodology | 150 | 1 | 1 | 150
(4) Research on human-computer interface | 350 | 1 | 1 | 350
(5) Pilot interviewing | 200 | 1 | 1 | 200
(6) Pilot interventions | 30 | 6 | 2 | 360
Total | 1,430 |  |  | 2,210

Dated: December 26, 2007.
Maryam I. Daneshvar,
Acting Reports Clearance Officer, Centers for Disease Control and Prevention.

[FR Doc. E7-25564 Filed 1-2-08; 8:45 am]

BILLING CODE 4163-18-P